DEPARTMENT OF JUSTICE

Notice of Lodging of Proposed Consent Decree Under the Clean Air Act

On April 21, 2022, the Department of Justice lodged a proposed Consent Decree with the United States District Court for the District of Massachusetts, in a lawsuit entitled United States v. Schnitzer Steel Industries, Inc., Civil Action No. 1:22-cv-10604.

The United States filed this lawsuit under Section 113(b) of the Clean Air Act (“CAA”), 42 U.S.C. 7613(b). The Complaint seeks civil penalties, injunctive relief, and mitigation for violations of Title V of the CAA, 42 U.S.C. 7671-7671q, and its implementing regulations at 40 CFR part 82, subpart F, designed to protect stratospheric ozone from the effects of refrigerant emissions, at 40 metal recycling facilities throughout the United States owned and operated by Schnitzer. The alleged violations include, among other things, (a) failing to recover refrigerants from small appliances, motor vehicle air conditioners (“MVACs”), and MVAC-like appliances (collectively, “appliances”) prior to recycling; (b) failing to verify that all refrigerants had been properly recovered from appliances prior to their delivery to Schnitzer's facilities; and (c) accepting signed refrigerant recovery statements or contracts from scrap material suppliers knowing or having reason to know they were false.

Under the proposed consent decree, Schnitzer will pay the United States a civil penalty of $1,550,000, plus interest, and implement compliance measures at all 40 facilities worth over $1,700,000. For example, the decree requires Schnitzer to, among other things, implement an EPA-approved refrigerant recovery management program (“RRMP”), including the provision of refrigerant recovery services, screening procedures for scrap appliances and vehicles, and related employee training. The decree also requires Schnitzer to perform a mitigation project involving the destruction of all R-12 refrigerant recovered from scrap appliances at its 40 facilities. R-12, which contains chlorofluorocarbons (CFCs), has a global warming potential 10,000 times that of carbon dioxide.

The publication of this notice opens a period for public comment on the proposed consent decree. Comments should be addressed to the Assistant Attorney General, Environment and Natural Resources Division, and should refer to United States v. Schnitzer Steel Industries, Inc., D.J. Ref. No. 90-5-2-1-12074. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. Paper copies of the consent decree are available upon written request and payment of reproduction costs. Such requests and payments should be addressed to: Consent Decree Library, U.S. DOJ—ENRD, P.O. Box 7611, Washington, DC 20044-7611.

With each such request, please enclose a check or money order for $9.75 (25 cents per page reproduction cost) per paper copy, payable to the United States Treasury.

Henry S. Friedman,
Assistant Section Chief, Environmental Enforcement Section, Environment and Natural Resources Division.

[FR Doc. 2022-08927 Filed 4-26-22; 8:45 am]

BILLING CODE P